DEPARTMENT OF THE INTERIOR

Minerals Management Service

Extension of Post-Sale Evaluation Period for Central Gulf of Mexico Lease Sale 205

AGENCY: Minerals Management Service (MMS), Interior.

ACTION: Notice to Extend Post-Sale Evaluation Period for Central Gulf of Mexico Lease Sale 205.

SUMMARY: This notice extends by 45 days, the post-sale evaluation period for Central Gulf of Mexico Lease Sale 205. The Minerals Management Service (MMS) will complete evaluating all the bids received in this sale by February 15, 2008. This action is necessary due to the unusually high number of bids received in this lease sale.

DATES: The post-sale evaluation period ends on January 1, 2008.

FOR FURTHER INFORMATION CONTACT: David Marin, Regional Supervisor, Resource Evaluation, Gulf of Mexico Region, telephone 504-736-2710.

SUPPLEMENTARY INFORMATION: In the Central Gulf of Mexico Sale 205, held October 3, 2007, we received 1428 bids on 723 tracts, 616 tracts of which passed to a second phase requiring additional detailed evaluations. The aggressive bidding activity is due, in part, to the high number of quality prospects on recently expired unexplored tracts in newly established deepwater hydrocarbon plays and to the cost saving technological advances related to hydrocarbon exploration and development in the Gulf of Mexico's deepwater environment. The unusually high number of bids received on a large number of tracts, and the high volume of exclusively reprocessed data identified on Sale 205, significantly increases the workload for reviewing the adequacy of bids. Consequently, MMS is unable to conduct and complete the bid review process within the 90 days, i.e., by January 1, 2008. Under the provisions of § 256.47 (e) (2), MMS is extending the bid evaluation period until February 15, 2008.

Dated: November 26, 2007.
Lars Herbst,
Regional Director, Gulf of Mexico OCS Region.

[FR Doc. E7-24501 Filed 12-17-07; 8:45 am]

BILLING CODE 4310-MR-P